DEPARTMENT OF THE INTERIOR

Bureau of Land Management

[LLCAC09000 L11500000.JP0000]

Notice of Intent To Prepare a Resource Management Plan Amendment for the Southern Diablo Mountain Range and Central Coast of California and Associated Environmental Assessment

AGENCY: Bureau of Land Management, Interior.

ACTION: Notice.

SUMMARY: In compliance with the National Environmental Policy Act of 1969, as amended (NEPA), and the Federal Land Policy and Management Act of 1976, as amended (FLPMA), the Bureau of Land Management (BLM) Hollister Field Office, Hollister, California intends to prepare a Resource Management Plan (RMP) amendment for the Southern Diablo Mountain Range and Central Coast of California RMP with an associated Environmental Assessment (EA) to address the Panoche-Coalinga Area of Critical Environmental Concern (ACEC) and by this notice is announcing the beginning of the scoping process to solicit public comments and identify issues.

DATES: This notice initiates the public scoping process for the RMP amendment and associated EA. Comments on issues may be submitted in writing until 30 days after the date of this notice in the Federal Register. The date(s) and location(s) of any scoping meetings will be announced at least 15 days in advance through the local news media, newspapers and the BLM Web site at: http://www.blm.gov/ca/hollister. In order to be included in the analysis, all comments must be received prior to the close of the 30-day scoping period or 15 days after the last public meeting, whichever is later. We will provide additional opportunities for public participation as appropriate.

ADDRESSES: You may submit comments on issues and planning criteria related to the RMP amendment EA by any of the following methods:

• Web site: http://www.blm.gov/ca/hollister.

• Email: BLM_CA_Hollister_RMP@blm.gov.

• Fax: 831-630-5055.

• Mail: Hollister Field Office, 20 Hamilton Court, Hollister, CA 95023.

Documents pertinent to this proposal may be examined at the Hollister Field Office, 20 Hamilton Court, Hollister, CA 95023.

FOR FURTHER INFORMATION CONTACT: And/or to have your name added to our mailing list, contact Sky Murphy, telephone 831-630-5039; address (see ADDRESSES above); email BLM_CA_Hollister_RMP@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM approved the Record of Decision (ROD) for the RMP for the Southern Diablo Mountain Range and Central Coast of California in 2007. The ROD calls for detailed ACEC management plans to identify site-specific projects, as well as implementation strategies to address complex natural and cultural resource management issues. Accordingly, the BLM is preparing an RMP amendment/EA to address the Panoche-Coalinga ACEC. The RMP amendment will incorporate relevant new information and program guidance or policies developed since the 2007 ROD.

The planning area is located in southern San Benito and western Fresno counties and encompasses approximately 56,000 acres of public land. The purpose of the public scoping process is to determine relevant issues that will inform the scope of the environmental analysis, including alternatives, and guide the planning process. Preliminary issues for the plan amendment area have been identified by the BLM; Federal, State, and local agencies; and other stakeholders. The issues include designation and management of special areas such as ACECs and Research Natural Areas, special status species recovery, recreation management, energy development, livestock grazing, fire management, and lands available for disposal or potential acquisition.

Preliminary planning criteria include:

1. Compliance with FLPMA, NEPA, and all other applicable laws;

2. Coordination with local and county governments for analysis of economic and social impacts;

3. Government-to-government consultation with federally recognized tribes;

4. Designation of motorized use areas and routes;

5. Compliance with Rangeland Health Standards and Guidelines; and

6. Consideration of cost effectiveness of proposed actions and alternatives.

You may submit comments on issues and planning criteria in writing to the BLM at any public scoping meeting, or you may submit them to the BLM using one of the methods listed in the ADDRESSES section above. To be most helpful, you should submit comments by the close of the 30-day scoping period or within 15 days after the last public meeting, whichever is later.

The BLM will provide opportunities for public participation as required by NEPA and the National Historic Preservation Act (NHPA). Information about historic and cultural resources within the area potentially affected by the proposed action will assist the BLM in identifying and evaluating impacts to such resources in the context of NEPA and the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

The BLM will evaluate identified issues to be addressed in the plan, and will place them into one of three categories:

1. Issues to be resolved in the plan amendment;

2. Issues to be resolved through policy or administrative action; or

3. Issues beyond the scope of this plan amendment.

The BLM will provide an explanation in the EA as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: rangeland management, minerals and geology, outdoor recreation, archaeology, paleontology, wildlife and fisheries, lands and realty, hydrology, soils, and sociology and economics.

Authority: 40 CFR 1501.7 and 43 CFR 1610.2

Thomas Pogacnik,
Deputy State Director, California.

[FR Doc. 2012-22939 Filed 9-17-12; 8:45 am]

BILLING CODE 4310-40-P